EQUAL EMPLOYMENT OPPORTUNITY COMMISSION

SES Performance Review Board—Appointment of Members

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street, NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRB. Members will serve a 12-month term, which begins on October 4, 2010.

PRE Chair: Mr. James Neely, Director St. Louis District Office, Equal Employment Opportunity Commission.

Members:

Ms. Gwendolyn Reams, Associate General Counsel, Equal Employment Opportunity Commission;

Ms. Deidre Flippen, Director for Research, Information and Planning, Equal Employment Opportunity Commission;

Mr. John Rowe, Director, Chicago District Office, Equal Employment Opportunity Commission;

Ms. Tracey Sasser, Assistant General Counsel, Department of Education;

Ms. Linda Cruciani, Deputy General Counsel for Operations, Department of Housing and Urban Development.

Alternate: Mr. Michael Baldonado, Director, San Francisco District Office, Equal Employment Opportunity Commission.

Dated: October 6, 2010.
Jacqeline A. Berrien,
Chair.

[FR Doc. 2010-25782 Filed 10-14-10; 8:45 am]

BILLING CODE 6570-01-M